DEPARTMENT OF JUSTICE

Notice of Lodging of a Consent Decree Pursuant to the Clean Water Act; Correction

AGENCY: Department of Justice.

ACTION: Correction.

SUMMARY: In notice document 04-27485 on page 75344 in the Federal Register issue of Thursday, December 16, 2004, (Volume 69, No. 241) make the following correction:

On page 75344, first column, first paragraph, the case caption was previously listed as United States of America and The State of Alabama v. Knoxville Utilities Board, Civ. No. 3:04-CV-568, and Tennessee Clean Water Network. v. Knoxville Utilities Board, Civ No. 3:03-CV-497. This should be changed to United States of America and The State of Tennessee v. Knoxville Utilities Board, Civ. No. 3:04-CV-568, and Tennessee Clean Water Network. v. Knoxville Utilities Board, Civ No. 3:03-CV-497.

FOR FURTHER INFORMATION CONTACT: Patricia Hurst, (202) 307-1242.

Maureen Katz,
Assistant Chief, Management, Environmental Enforcement Section, Environment and Natural Resources Division.

[FR Doc. 05-395 Filed 1-7-05; 8:45 am]

BILLING CODE 4410-15-M